DEPARTMENT OF LABOR

Employment and Training Administration

[TA-W-53,998]

Tri Star Knitting, Cedar Bluff, AL; Notice of Termination of Investigation

Pursuant to section 221 of the Trade Act of 1974, as amended, an investigation was initiated on January 14, 2004 in response to a worker petition filed by a state workforce agency on behalf of workers at Tri Star Knitting, Cedar Bluff, Alabama.

The Department was unable to locate an official of the company to obtain the information necessary to issue a determination. Consequently, the investigation has been terminated.

Signed at Washington, DC, this 8th day of March, 2004.
Linda G. Poole,
Certifying Officer, Division of Trade Adjustment Assistance.

[FR Doc. 04-7177 Filed 3-30-04; 8:45 am]

BILLING CODE 4510-30-P